DEPARTMENT OF THE INTERIOR

Office of the Secretary

Tribal Consultation on Proposed Self-Determination and Self-Governance Funding Agreement Language on Fiduciary Trust Records Management

AGENCY: Office of the Secretary, Interior.

ACTION: Notice of tribal consultation meeting.

SUMMARY: This notice announces a change of meeting dates reported in the Federal Register announcement of February 2, 2005 (70 FR 5457) and a new deadline for submitting written comments. The three consultation meetings are intended to obtain oral and written comments concerning: (1) A proposed policy on fiduciary trust records management for Self-Determination (Title I) and Self-Governance (Title IV) Tribes/Consortia; and (2) proposed language to be negotiated as part of the 2006 Title I and Title IV funding agreements regarding fiduciary trust records management.

This change is in response to requests from a number of Indian Tribes because two of the original dates conflicted with the National Congress of American Indians' meeting in Washington, DC which is scheduled from February 28, 2005 to March 2, 2005.

DATES: The new dates for the three consultation meetings are:

1. March 9, 2005, 8:30 a.m. to 3:30 p.m., Nashville, Tennessee (No date change but new times)

2. March 29, 2005, 8:30 a.m. to 3:30 p.m., Portland, Oregon (New date/times)

3. March 31, 2005, 8:30 a.m. to 3:30 p.m., Phoenix, Arizona (New date/times)

ADDRESSES: The meeting locations are:

1. Nashville—DoubleTree Hotel Nashville—Downtown, 315 4th Avenue North, Nashville, Tennessee; Telephone: (615) 244-8200.

2. Portland—Red Lion Portland Convention Center, 1021 N.E. Grand Avenue, Portland, Oregon; Telephone: (503) 235-2100.

3. Phoenix—Hilton Phoenix Airport, 2435 South 47th Street, Phoenix, Arizona; Telephone: (480) 894-1600.

Written comments may be mailed to William A. Sinclair, Director, Office of Self-Governance and Self-Determination, Mail Stop 4618-MIB, 1849 C Street NW., U.S. Department of the Interior, Washington, DC 20240. Postmark must be no later than April 1, 2005. Comments may also be faxed to William A. Sinclair at (202) 219-1404 no later than April 1, 2005.

FOR FURTHER INFORMATION CONTACT: William A. Sinclair, Director, Office of Self-Governance and Self-Determination, Mail Stop 4618-MIB, 1849 C Street, NW., U.S. Department of the Interior, Washington, DC 20240; Telephone: (202) 219-0244.

SUPPLEMENTARY INFORMATION: Please see the Federal Register notice dated February 2, 2005 (70 FR 5457).

Abraham E. Haspel,
Assistant Deputy Secretary—Office of the Secretary.

[FR Doc. 05-3721 Filed 2-25-05; 8:45 am]

BILLING CODE 4310-W8-P